CONSUMER PRODUCT SAFETY COMMISSION

[Docket No. CPSC-2021-0020]

Agency Information Collection Activities; Proposed Collection; Comment Request; Hazard Warning Communication Survey

AGENCY: Consumer Product Safety Commission.

ACTION: Notice.

SUMMARY: The Consumer Product Safety Commission (CPSC) is announcing an opportunity for public comment on a new proposed collection of information by the agency. Under the Paperwork Reduction Act of 1995 (PRA), federal agencies are required to publish notice in the Federal Register for each proposed collection of information, and to allow 60 days for public comment in response to the notice. This notice solicits comments on a proposed survey to assess how hazard warnings are communicated to consumers. The Commission will consider all comments received in response to this notice before submitting this collection of information to the Office of Management and Budget (OMB) for approval.

DATES: Submit written or electronic comments on the collection of information by September 24, 2021.

ADDRESSES: You may submit comments, identified by Docket No. CPSC-2021-0020, by any of the following methods:

Electronic Submissions: Submit electronic comments to the Federal eRulemaking Portal at: https://www.regulations.gov. Follow the instructions for submitting comments. CPSC does not accept comments submitted by electronic mail (email), except through https://www.regulations.gov and as described below. CPSC encourages you to submit electronic comments by using the Federal eRulemaking Portal.

Mail/hand delivery/courier Written Submissions: Submit comments by mail/hand delivery/courier to: Division of the Secretariat, Consumer Product Safety Commission, 4330 East-West Highway, Bethesda, MD 20814; telephone: (301) 504-7479. Alternatively, as a temporary option during the COVID-19 pandemic, you may email such submissions to: cpsc-os@cpsc.gov.

Instructions: All submissions must include the agency name and docket number for this notice. CPSC may post all comments received without change, including any personal identifiers, contact information, or other personal information provided, to: https://www.regulations.gov. Do not submit electronically: Confidential business information, trade secret information, or other sensitive or protected information that you do not want to be available to the public. If you wish to submit such information, please submit it according to the instructions for mail/hand delivery/courier written submissions.

Docket: For access to the docket to read background documents or comments received, go to: https://www.regulations.gov, insert Docket No. CPSC-2021-0020 into the “Search” box, and follow the prompts. A copy of the proposed survey is available at: http://www.regulations.gov under Docket No. CPSC-2021-0020, Supporting and Related Material.

FOR FURTHER INFORMATION CONTACT: Cynthia Gillham, Consumer Product Safety Commission, 4330 East-West Highway, Bethesda, MD 20814; (301) 504-7991, or by email to: cgillham@cpsc.gov.

SUPPLEMENTARY INFORMATION: Under the PRA (44 U.S.C. 3501-3520), federal agencies must obtain approval from OMB for each collection of information they conduct or sponsor. “Collection of information” is defined in 44 U.S.C. 3502(3) and 5 CFR 1320.3(c) and includes agency proposed surveys. Section 3506(c)(2)(A) of the PRA (44 U.S.C. 3506(c)(2)(A)) requires federal agencies to provide a 60-day notice in the Federal Register concerning each proposed collection of information before submitting the collection to OMB for approval. Accordingly, CPSC is publishing notice of the proposed collection of information set forth in this document.

A. Hazard Warning Communication Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products, and develop product safety test methods and testing devices.

CPSC proposes to conduct an online survey to gather data on consumer risk perception and response to hazard communications from 5,000 respondents. The study population will be comprised of individuals age 18 and over from across the United States. In this proposed survey, CPSC seeks information about consumer product use, including, but not limited to, the following topics:

• Consumers' beliefs, experiences, and tendencies regarding product safety;

• whether consumers pay attention to instructions that come with products;

• whether consumers read safety information and labels;

• to what extent consumers comply with safety messages;

• how product type influences consumers' attitude and behavior;

• what information resources consumers rely on before buying a product;

• how product safety ranks among other factors consumers consider;

• reasons consumers comply or do not comply with the safety messages; and

• how consumers respond if they encounter a safety recall of the product they own.

CPSC has contracted with Carahsoft/Qualtrics, to develop and execute this project for CPSC. Information obtained through this survey is not intended to be considered nationally representative. The panel provider will monitor respondents, and if a particular demographic is trending highly, the panel provider will slow down the sample for that segment and will focus on obtaining responses from others to ensure recruitment for U.S. census-matched survey participants from the Midwest, Northeast, South, and West regions. The panel provider will also monitor respondents to ensure that underserved populations are represented in the sample and that insights are collected from a diverse population.

CPSC intends to use the study findings to develop a better understanding of the mechanisms and types of safety messages that consumers receive, how they respond, and what affects their response. Specifically, responses to the items in this survey will provide CPSC staff with information on whether consumers read and comply with various types of safety information that comes with products they use; the causes of consumer noncompliance with product safety information; whether consumers share product safety information with other users of their products; what sources of information they rely on to decide if a product is safe to use; whether safety is a priority in their purchasing decisions; how they responded to safety notices and recalls in the past; reasons for noncompliance with safety notices and recalls; and if and how the product type affects their risk perception and behaviors. Findings from this survey will provide CPSC with information on ways to increase consumer understanding of, and adherence to, safety messaging and help CPSC develop more effective messaging that will convey critical information about product hazards.

B. Burden Hours

We estimate the number of respondents to the survey to be 5,000. The online survey for the proposed study will take approximately 15 minutes (0.25 hours) to complete. We estimate the total annual burden hours for respondents to be 1,250 hours. The monetized hourly cost is $38.60, as defined by total compensation for all civilian workers, U.S. Bureau of Labor Statistics, Employer Costs for Employee Compensation, as of December 2020. Accordingly, we estimate the total cost burden to be $48,250 (1,250 hours × $38.60). The total cost to the federal government for the contract to design and conduct the proposed survey is $150,978.

C. Request for Comments

CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Alberta E. Mills,
Secretary, Consumer Product Safety Commission.

[FR Doc. 2021-15841 Filed 7-23-21; 8:45 am]

BILLING CODE 6355-01-P